SMALL BUSINESS ADMINISTRATION

National Women's Business Council; Quarterly Public Meeting

AGENCY: National Women's Business Council, Small Business Administration (SBA).

ACTION: Notice of open public meeting.

DATES: The meeting will be held on Wednesday, March 25, 2014 from 1:15 p.m. to 2:15 p.m. EST.

ADDRESSES: The meeting will be held at the Detroit Marriott at the Renaissance Center, located at 400 Renaissance Drive in Detroit, Michigan.

SUPPLEMENTARY INFORMATION: Pursuant to section 10(a)(2) of the Federal Advisory Committee Act (5 U.S.C., Appendix 2), SBA announces the meeting of the National Women's Business Council. The National Women's Business Council is tasked with providing policy recommendations on issues of importance to women business owners to the President, Congress, and the SBA Administrator.

This meeting is the 2nd quarterly meeting of the Council for FY2015. The meeting will include remarks from the Council Chair, Carla Harris, and an update from each of the NWBC committees: The Group of Six, Communications and Engagement, and Research and Policy. Updates will be shared on the current research projects, including: Women's participation in accelerators and incubators (qualitative), women's participation in corporate supplier diversity programs (qualitative), undercapitalization as a contributing factor to failure (quantitative), women's use of social networks (quantitative), and an impact study of the Women Business Center program. The Council will also introduce the topics of interest for the FY2015 research portfolio. Time will be reserved at the end for audience participants to address Council Members directly with questions, comments, or feedback.

FOR FURTHER INFORMATION CONTACT: The meeting is open to the public however advance notice of attendance is requested. To RSVP and confirm attendance, the general public should email info@nwbc.gov with subject line—“RSVP for Detroit.” Anyone wishing to make a presentation to the NWBC at this meeting must either email their interest to info@nwbc.gov or call the main office number at 202-205-3850.

For more information, please visit the National Women's Business Council Web site at www.nwbc.gov.

Dated: February 11, 2015.
Diana Doukas,
SBA Committee Management Officer.

[FR Doc. 2015-03233 Filed 2-17-15; 8:45 am]

BILLING CODE 8025-01-P